DEPARTMENT OF HEALTH AND HUMAN SERVICES

Health Resources and Services Administration

Renewal of Charter for the Advisory Committee on Organ Transplantation

AGENCY: Healthcare Systems Bureau, Health Resources and Services Administration, HHS.

ACTION: Notice.

SUMMARY: The Department of Health and Human Services is hereby giving notice that the Advisory Committee on Organ Transplantation (ACOT) has been rechartered. The effective date of the revised charter was September 1, 2014.

FOR FURTHER INFORMATION CONTACT: Patricia Stroup, MBA, MPA, Executive Secretary, Advisory Committee on Organ Transplantation, Health Resources and Services Administration, Department of Health and Human Services, Room 17W65 Fishers Lane, Rockville, Maryland 20857. Phone: (301) 443-1127; fax: (301) 594-6095; email: PStroup@hrsa.gov.

SUPPLEMENTARY INFORMATON: 42 U.S.C. 217a; Section 222 of the Public Health Service Act, as amended; 42 CFR 121.12. The Committee is governed by the provisions of Public Law 92-463, as amended (5 U.S.C. appendix 2), which sets forth standards for the formation and use of advisory committees.

ACOT advises and makes recommendations to the Secretary on all aspects of organ donation, procurement, allocation, and transplantation and on such other matters as the Secretary determines.

One of its principal functions shall be to advise the Secretary on federal efforts to maximize the number of deceased donor organs made available for transplantation and to support the safety of living organ donation.

On August 26, 2014, the Acting Director, Office of Management, HRSA, approved the ACOT charter to be renewed. The filing date of the renewed charter was September 1, 2014. There were no amendments to the previous charter. Renewal of the ACOT charter gives authorization for the Committee to continue to operate until September 1, 2016.

A copy of the ACOT charter is available on the Web site for the organ transplantation program, at http://www.organdonor.gov/. A copy of the charter also can be obtained by accessing the FACA database that is maintained by the Committee Management Secretariat under the General Services Administration. The Web site address for the FACA database is http://www.facadatabase.gov/.

Dated: March 3, 2015.
Mary K. Wakefield,
Administrator.

[FR Doc. 2015-05428 Filed 3-9-15; 8:45 am]

BILLING CODE 4165-15-P